DEPARTMENT OF HEALTH AND HUMAN SERVICES

Office of Inspector General

Publication of OIG Special Fraud Alert on Telemarketing by Durable Medical Equipment Suppliers; Correction

AGENCY: Office of Inspector General (OIG), HHS.

ACTION: Notice; correction.

SUMMARY: This document sets forth a correction to the OIG Federal Register notice published on March 4, 2003 (68 FR 10254) addressing our recently-issued Special Fraud Alert. Specifically, the Special Fraud Alert addressed the statutory provision prohibiting durable medical equipment suppliers from making unsolicited telephone calls to Medicare beneficiaries regarding the furnishing of a covered item. An inadvertent error appeared on the heading line in section II of that document regarding the final issuance date of the notice. Accordingly, we are correcting that issuance date to assure technical correctness of that document.

EFFECTIVE DATE: March 10, 2003.

FOR FURTHER INFORMATION CONTACT: Joel Schaer, Office of Counsel to the Inspector General, (202) 619-0089.

SUPPLEMENTARY INFORMATION: In our publication of the OIG Special Fraud Alert on Telemarketing by Durable Medical Equipment Suppliers, an inadvertent error appeared on the heading for section II on page 10255 regarding the final issuance date of the Special Fraud Alert. The heading incorrectly indicated the issuance date as January 2003. The correct issuance date of this Special Fraud Alert should read as March 2003.

Dated: March 4, 2003.
Joel Schaer,
OIG Regulations Officer.

[FR Doc. 03-5631 Filed 3-7-03; 8:45 am]

BILLING CODE 4150-04-P